DEPARTMENT OF HEALTH AND HUMAN SERVICES

National Institutes of Health

Center for Scientific Review; Amended Notice of Meeting

Notice is hereby given of a change in the meeting of the Biobehavioral Mechanisms of Emotion, Stress and Health Study Section, October 4, 2012, 8 a.m. to October 5, 2012, 5 p.m., Renaissance M Street Hotel, 1143 New Hampshire Avenue NW., Washington, DC, 20037 which was published in the Federal Register on September 5, 2012, FR 77 54582-54583.

The meeting location has been changed to Renaissance Washington DC, Dupont Circle Hotel, 1143 New Hampshire Avenue Northwest, Washington, DC 20037. The meeting date and time remain the same. The meeting is closed to the public.

Dated: September 20, 2012.
Carolyn A. Baum,
Program Analyst, Office of Federal Advisory Committee Policy.

[FR Doc. 2012-23625 Filed 9-25-12; 8:45 am]

BILLING CODE 4140-01-P